DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Affairs announces that the Advisory Board for Exceptional Children will hold its next meeting in Choctaw, Mississippi. The purpose of the meeting is to discuss the impact of the Individuals with Disabilities Education Act Amendments of 1997 on Indian children with disabilities.

DATES: The Board will meet Thursday, September 26, 2002 from 8 a.m. to 4:30 p.m., Friday, September 27, 2002 from 8 a.m. to 4:30 p.m. and Saturday, September 28, 2002 from 8 a.m. to 12 p.m. (EST).

ADDRESSES: The meetings will be held at the Golden Moon Hotel and Casino at Pearl River Resort, Highway 16 West, Choctaw, Mississippi 39350, Telephone (601) 650-1234; Fax (601) 650-1350.

Written statements may be submitted to Mr. William A. Mehojah, Director, Office of Indian Education Programs, Bureau of Indian Affairs, 1849 C Street, NW., MS-3512, Washington, DC 20240; Telephone (202) 208-6123; Fax (202) 208-3312.

FOR FURTHER INFORMATION CONTACT: Dr. Sherry Allison, Education Specialist—Special Education, Bureau of Indian Affairs, Office of Indian Education Programs, Center for School Improvement, P.O. Box 1088, Albuquerque, New Mexico 87103; Telephone (505) 248-7529.

SUPPLEMENTARY INFORMATION: The Advisory Board was established to advise the Secretary of the Interior, through the Assistant Secretary—Indian Affairs, on the needs of Indian children with disabilities, as mandated by the Individuals with Disabilities Education Act Amendments of 1997 (Pub. L. 105-17, June 4, 1997).

The agenda for this meeting will cover public comments, approval of minutes, new business: annual report, comprehensive system of personnel development, new organizational information, procedures for complaint investigations, Elementary and Secondary Education Act Re-authorization and Individuals with Disabilities Education Act Re-authorization. Meetings are open to the public.

The next Board meeting will be held on or about January 7-9, 2003. Location, date and time may be obtained from the Center for School Improvement, telephone (505) 248-7529 or 7544; Fax (505) 248-7545.

Dated: August 23, 2002.
Neal A. McCaleb,
Assistant Secretary—Indian Affairs.

[FR Doc. 02-22227 Filed 8-29-02; 8:45 am]

BILLING CODE 4310-6W-P